ENVIRONMENTAL PROTECTION AGENCY

40 CFR Part 62

[EPA-R02-OAR-2016-0161; FRL-9954-59-Region 2]

Approval and Promulgation of State Plans for Designated Facilities and Pollutants; New York, New Jersey and Commonwealth of Puerto Rico; Other Solid Wsate Incineration Units (OSWIs)

AGENCY: Environmental Protection Agency (EPA).

ACTION: Proposed rule.

SUMMARY: The Environmental Protection Agency (EPA) proposes to approve the Clean Air Act (CAA) section 111(d)/129 negative declaration for the States of New York and New Jersey and the Commonwealth of Puerto Rico,for other solid waste incineration units(OSWIs) units. Other solid waste incineration (OSWI) unit means either a very small municipal waste combustion unit or an institutional waste incineration unit within our regulations. This negative declaration certifies that existing OSWI units subject to sections 111(d) and 129 of the CAA do not exist within the jurisdiction of the Sates of New York and New Jersey or the Commonwealth of Puerto Rico. The EPA is accepting the negative declaration in accordance with the requirements of the CAA.

DATES: Comments must be received on or before December 1, 2016.

ADDRESSES: Submit your comments, identified by Docket ID No. EPA-R02-OAR-2016—to http://www.regulations.gov. Follow the online instructions for submitting comments.

Once submitted, comments cannot be edited or removed from Regulations.gov. The EPA may publish any comment received to its public docket. Do not submit electronically any information you consider to be Confidential Business Information (CBI) or other information whose disclosure is restricted by statute.

Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

FOR FURTHER INFORMATION CONTACT: Edward J. Linky, Environmental Protection Agency, Air Programs Branch, 290 Broadway New York, New York 1007-1866 at 212-637-3764 or by email at linky.edward@epa.gov.

SUPPLEMENTARY INFORMATION: In the final rules section of this Federal Register, the EPA is approving the State of New York's negative declaration submitted November 13, 2006, the State of New Jersey's negative declaration submitted April 5, 2006 and the Commonwealth of Puerto Rico's negative declaration submitted September 25, 2006 as a direct final rule without prior proposal because the Agency views this as a noncontroversial revision amendment and anticipates no adverse comments to this action.

A detailed rationale for the approval is set forth in the direct final rule. If no adverse comments are received in response to this action, no further activity is contemplated in relation to this action. If the EPA receives adverse comments,the direct final rule will be withdrawn and all public comments received will be addressed in a subsequent final rule based on this proposed action. The EPA will not institute a second comment period on this action. Any parties interested in commenting on this action should do so at this time.

For additional information, see the direct final rule which is located in the rules section of this Federal Register.

List of Subjects in 40 CFR Part 62

Environmental protection, Air pollution control, Administrative practice and procedure, Intergovernmental relations, Reporting and recordkeeping requirements, Sewage sludge incinerators.

Dated: October 3, 2016.
Judith A. Enck,
Regional Administrator, Region 2.

[FR Doc. 2016-26172 Filed 10-31-16; 8:45 am]

BILLING CODE 6560-50-P